DEPARTMENT OF COMMERCE

Foreign-Trade Zones Board

[Order No. 1786]

Reorganization/Expansion of Foreign-Trade Zone 161 under Alternative Site Framework; Sedgwick County, KS

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/2009; correction 74 FR 3987, 01/22/2009; 75 FR 71069-71070, 11/22/2010) as an option for the establishment or reorganization of general-purpose zones;

Whereas, the Board of County Commissioners of Sedgwick County, grantee of Foreign-Trade Zone 161, submitted an application to the Board (FTZ Docket 34-2011, filed 5/17/2011) for authority to reorganize and expand under the ASF with a service area that includes Butler, Harvey, McPherson, Reno, Saline, Sedgwick and Sumner Counties, Kansas, within and adjacent to the Wichita Customs and Border Protection port of entry; FTZ 161's existing Site 1 would be modified by removing 119 acres and existing Site 1A would be renumbered as Site 2; Sites 1 and 2 would be categorized as magnet sites; and, the grantee proposes an initial usage-driven site (Site 3);

Whereas, notice inviting public comment was given in the Federal Register (76 FR 30099-30100, 5/24/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 161 under the alternative site framework is approved, subject to the FTZ Act and the Board's regulations, including Section 400.28, to the Board's standard 2,000-acre activation limit for the overall general-purpose zone project, to a five-year ASF sunset provision for magnet sites that would terminate authority for Site 1 if not activated by September 30, 2016, and to a three-year ASF sunset provision for usage-driven sites that would terminate authority for Site 3 if no foreign-status merchandise is admitted for a bona fide customs purpose by September 30, 2014.

Signed at Washington, DC, this 30th day of September 2011.
Ronald K. Lorentzen,
Deputy Assistant Secretary for Import Administration, Alternate Chairman, Foreign-Trade Zones Board.
ATTEST: ________________________________
Andrew McGilvray,
Executive Secretary.

[FR Doc. 2011-26366 Filed 10-11-11; 8:45 am]

BILLING CODE P